DEPARTMENT of DEFENSE

Department of the Army; Corps of Engineers

Notice of Availability of the Final Feasibility Study/Environmental Impact Statement for the Chatfield Reservoir Storage Reallocation, Littleton, CO

AGENCY: Department of the Army, U.S. Army Corps of Engineers, DoD.

ACTION: Notice of availability.

SUMMARY: In accordance with the National Environmental Policy Act of 1969, as amended, the U.S. Army Corps of Engineers has prepared a Final Feasibility Study/Environmental Impact Statement (FR/EIS) for the Chatfield Reservoir Storage Reallocation, Littleton, CO.

DATES: Submit comments on or before September 3, 2013.

FOR FURTHER INFORMATION CONTACT: For further information and/or questions about the Final Chatfield Reservoir Storage Reallocation FR/EIS, please contact Ms. Gwyn Jarrett, Project Manager, by telephone: (402) 995-2717, by mail: 1616 Capitol Avenue, Omaha, NE 68102-4901, or by email: chatfieldstudy@usace.army.milmailto:Gwyn.M.Jarrett@usace.army.mil. For inquiries from the media, please contact the USACE Omaha District Public Affairs Officer (PAO), Ms. Eileen Williamson by telephone (402) 995-2487, by mail: 1616 Capitol Avenue, Omaha, NE 68102-4901, or by email: Eileen.L.Williamson@usace.army.mil.

SUPPLEMENTARY INFORMATION:

1. Background

Population growth within the Denver, Colorado, metropolitan area continues to create a demand on water providers. Colorado's population is projected to be between 8.6 and 10.3 million in 2050. The Statewide Water Supply Initiative (SWSI), commissioned by the State Legislature, estimates that by 2050, Colorado will need between 600,000 and 1 million acre-feet/year of additional municipal and industrial water. There is also a strong need for additional water supplies for the agricultural community in the South Platte Basin as thousands of acres of previously irrigated land has not been farmed in recent years due to widespread irrigation well curtailments. The purpose and need of the Chatfield Reservoir Storage Reallocation study is to increase availability of water, sustainable over the 50-year period of analysis, in the greater Denver area so that a larger proportion of existing and future (increasing) water needs can be met.

By authority provided under Section 808 of the Water Resources Development Act (WRDA) of 1986 (Pub. L. 99-622), as amended by Section 3042 of the Water Resources Development Act of 2007 (Pub. L. 110-114), the Secretary of the Army, upon request of and in coordination with, the Colorado Department of Natural Resources (CDNR), and upon the Chief of Engineers' finding of feasibility and economic justification, may reassign a portion of the storage space in the Chatfield Lake project to joint flood control-conservation purposes, including storage for municipal and industrial water supply, agriculture, environmental restoration, and recreation and fishery habitat protection and enhancement. The reallocation was conditioned upon the appropriate non-Federal interests agreeing to repay the cost allocated to such storage in accordance with the provisions of the Water Supply Act of 1958, the Federal Water Project Recreation Act, and such other Federal laws as the Secretary determines appropriate. The payments would go to the United States Treasury. The recreation modifications and environmental mitigation work are additionally authorized by Section 103(c)(2) WRDA 1986, requiring non-Federal payment of 100 percent of the costs of municipal and industrial water supply projects, and this work will be cost shared pursuant to that section.

It is the purpose of this study to identify alternatives, compare those alternatives, and select the best alternative for meeting the needs based on solid planning principles. The FR/EIS allows the public, cooperating agencies, and Corps decisionmakers to compare the impacts and costs among a range of alternatives.

2. Document Availability

The Final Chatfield Reservoir Storage Reallocation FR/EIS is available online at: http://cdm16021.contentdm.oclc.org/cdm/ref/collection/p16021coll7/id/10. Hard copies are available at the following community libraries and Corps of Engineers Chatfield Project Office: Highlands Ranch Library, 9292 Ridgeline Blvd., Highlands Ranch, CO 80129, (303) 647-6642; Colorado Water Conservation Board, 1313 Sherman Street, Room 721, Denver, CO 80203, (303) 866-3441; Columbine Library, 7706 West Bowles Avenue, Littleton, CO 80123, (303) 235-5275; Lincoln Park Library, 919 7th Street, Suite 100, Greeley, CO 80631, (970) 506-8460; Aurora Public Library, 14949 E. Alameda Parkway, Aurora, CO 80012, (303) 739-6600; US Army Corps of Engineers, Tri-Lakes Project Office, 9307 S. Wadsworth Blvd., Littleton, CO 80128.

For more information about the Chatfield Reservoir Storage Reallocation FR/EIS, please visit http://www.nwo.usace.army.mil/Missions/CivilWorks/Planning/PlanningProjects/ChatfieldReallocationStudy.aspx.

Brenda S. Bowen,
Army Federal Register Liaison Officer.

[FR Doc. 2013-18548 Filed 8-1-13; 8:45 am]

BILLING CODE 3710-58-P